DEPARTMENT OF HEALTH AND HUMAN SERVICES

Indian Health Service

Delegations of Authority

Notice is hereby given that I have delegated to the Director, Indian Health Service, with authority to redelegate, all the authorities vested in the Secretary of Health and Human Services under Pub. L. 107-63, the Interior and Related Agencies Appropriations Act for Fiscal Year 2002, 115 Stat. 458, to accept land donated by the Tanadgusix Corporation.

This delegation is effective upon date of signature. In addition, I hereby ratify and affirm any actions taken by the Director, Indian Health Service, or his subordinates which involved the exercise of the authorities delegated herein prior to the effective date of this delegation.

Dated: May 2, 2003.
Tommy G. Thompson,
Secretary.

[FR Doc. 03-11685 Filed 5-9-03; 8:45 am]

BILLING CODE 4160-16-M